NATIONAL ARCHIVES AND RECORDS ADMINISTRATION

[NARA-2017-049]

Agency Information Collection Activities: Submission for OMB Review; Comment Request

AGENCY: National Archives and Records Administration (NARA).

ACTION: Notice.

SUMMARY: NARA is requesting an extension from the Office of Management and Budget (OMB) of approval to use the following three information collections. We use the first information collection form to advise requesters of the procedures they should follow to request certified copies of records for use in civil litigation or criminal actions in courts of law, and the information they need to provide us so that we can identify the correct records. Veterans, military dependents, and other authorized people use the second information collection form to request information from, or copies of, documents in military personnel, military medical, and dependent medical records. Genealogical researchers use the National Archives Trust Fund (NATF) forms contained in the third information collection to order records for genealogical research. We invite you to comment on these three proposed information collections.

DATES: OMB must receive written comments at the address below on or before July 14, 2017.

ADDRESSES: Send comments to Mr. Nicholas A. Fraser, desk officer for NARA, by mail to Office of Management and Budget, New Executive Office Building, Washington, DC 20503, by fax to 202-395-5167, or by email to Nicholas_A._Fraser@omb.eop.gov.

FOR FURTHER INFORMATION CONTACT: Please direct requests for additional information or copies of the proposed information collection and supporting statement to Tamee Fechhelm by phone at 301-837-1694 or by email to tamee.fechhelm@nara.gov.

SUPPLEMENTARY INFORMATION: We invite the public and Federal agencies to comment on information collections we propose to renew. We submit proposals to renew information collections first through a public comment period and then to OMB for review and approval pursuant to the Paperwork Reduction Act of 1995 (PRA; 44 U.S.C. 3501 et seq.). We published a notice of proposed collection for these information collections on April 7, 2017 (82 FR 17038), and we received no comments. We have therefore submitted the described information collections to OMB for approval.

We invite comments on: (a) Whether the proposed information collections are necessary for NARA to properly perform its functions, including whether the information will have practical utility; (b) our estimates of the information collection's burden on respondents; (c) ways to enhance the quality, utility, and clarity of the information we propose to collect; (d) ways to minimize the burden on respondents of collecting the information, including through use of information technology; and (e) whether these collections affect small businesses. All comments will become a matter of public record. In this notice, NARA solicits comments concerning the following information collections:

1. Title: Court Order Requirements.

OMB number: 3095-0038.

Agency form number: NA Form 13027.

Type of review: Regular.

Affected public: Military service members, their dependents, veterans, former Federal civilian employees, their authorized representatives, state and local governments, and businesses.

Estimated number of respondents: 5,000.

Estimated time per response: 15 minutes.

Frequency of response: On occasion (when respondent needs to request information for use in litigation or an action in a court of law).

Estimated total annual burden hours: 1,250 hours.

Abstract: The information collection is prescribed by 36 CFR 1228.164. In accordance with rules issued by the Office of Personnel Management, NARA's National Personnel Records Center (NPRC) administers former Federal civilian employee Official Personnel Folders (OPF) and Employee Medical Folders (EMF). In accordance with rules issued by the Department of Defense and the Department of Homeland Security (U.S. Coast Guard), NPRC also administers military service records of veterans after discharge, retirement, and death, and the medical records of these veterans, current members of the Armed Forces, and their dependents. We use the NA Form 13027, Court Order Requirements, to advise requesters of (1) the procedures they should follow to request certified copies of records for use in civil litigation or criminal actions in courts of law and (2) the information they need to provide so that we can identify the correct records.

2. Title: Forms Relating to Military Service Records.

OMB number: 3095-0039.

Agency form number: NA Forms 13036, 13042, 13055, 13075, and 13177.

Type of review: Regular.

Affected public: Veterans, military dependents, their authorized representatives, state and local governments, and businesses.

Estimated number of respondents: 132,500.

Estimated time per response: 5 minutes.

Frequency of response: On occasion (when respondent wishes to request information from a military personnel, military medical, and dependent medical record).

Estimated total annual burden hours: 11,042 hours.

Abstract: The information collection is prescribed by 36 CFR 1228.164. In accordance with rules issued by the Department of Defense and the Department of Homeland Security (U.S. Coast Guard), NARA's National Personnel Records Center (NPRC) administers military personnel and medical records of veterans after discharge, retirement, and death. In addition, NRPC administers the medical records of dependents of service personnel. When veterans, dependents, and other authorized individuals request information from, or copies of, documents in military personnel, military medical, and dependent medical records, they must provide on forms or in letters certain information about the veteran and the nature of the request so that we may find the correct records, protect the privacy of the person in the records from unauthorized access, and reconstruct information if needed. We ask requesters who seek medical records of dependents of service personnel and hospitalization records of military personnel to complete NA Form 13042, Request for Information Needed to Locate Medical Records, so that NPRC staff can locate the desired records. Certain types of information contained in military personnel and medical records are restricted from disclosure unless the veteran provides a more specific release authorization than is normally required for other records. In such cases, we ask veterans to complete NA Form 13036, Authorization for Release of Military Medical Patient Records, to authorize release to a third party of a restricted type of information found in the desired record. A major fire at the NPRC on July 12, 1973, destroyed numerous military records. If a person's request involves records or information from records that may have been lost in the fire, we may ask them to complete NA Form 13075, Questionnaire about Military Service, or NA Form 13055, Request for Information Needed to Reconstruct Medical Data, so that NPRC staff can search alternative sources to reconstruct the requested information. Requesters may check the status of a request for clinical or medical treatment records through the online NA Form 13177, Check the Status of a Clinical & Medical & Treatment Records Request. We use the information entered here to identify and track the requests and provide status updates.

3. Title: Order Forms for Genealogical Research in the National Archives.

OMB number: 3095-0027.

Agency form numbers: NATF Forms 84, 85, and 86.

Type of review: Regular.

Affected public: Individuals or households.

Estimated number of respondents: 10,318.

Estimated time per response: 10 minutes.

Frequency of response: On occasion.

Estimated total annual burden hours: 1,720.

We use these National Archives Trust Fund (NATF) forms to process requests for certain types of genealogical research documents. We need to handle requests for these types of records by order due to the volume of requests we receive for them; otherwise, we would not be able to get documents to people in a timely way. The forms also allow us to collect specific information from the researcher that we need to search for the records they want. The forms are: NATF 84, National Archives Order for Copies of Land Entry Files; NATF 85, National Archives Order for Copies of Pension or Bounty Land Warrant Applications; and NATF 86, National Archives Order for Copies of Military Service Records. As a convenience, the paper forms allow researchers to provide credit card information to authorize billing and expedited mailing of the copies. Researchers can instead use Order Online! (http://www.archives.gov/research_room/obtain_copies/military_and_genealogy_order_forms.html) to complete the forms and order the copies.

Swarnali Haldar,
Executive for Information Services/CIO.

[FR Doc. 2017-12248 Filed 6-13-17; 8:45 am]

BILLING CODE 7515-01-P